DEPARTMENT OF STATE

22 CFR Part 121

[Public Notice 6589]

Amendment to the International Arms Traffic in Arms Regulations: The United States Munitions List; Correction

AGENCY: Department of State.

ACTION: Correcting amendment.

SUMMARY: The Department of State published a final rule in the Federal Register on May 21, 2004 (69 FR 29222), revising Category XII(c) of the United States Munitions List. A technical error in that rule resulted in the unintended removal of language in a note after Category XII paragraph (c). This document corrects the final regulations by restoring the language in the note.

DATES: Effective on April 24, 2009.

FOR FURTHER INFORMATION CONTACT: Director Charles B. Shotwell, Office of Defense Trade Controls Policy, Department of State, Telephone (202) 663-2792 or Fax (202) 261-8199; e-mail DDTCResponseTeam@state.gov. ATTN: Regulatory Change, Category XII.

SUPPLEMENTARY INFORMATION: The Department of State published a final rule (Public Notice 4723) in the Federal Register of May 21, 2004, amending Category XII of the United States Munitions List. This document restores the language in the note after Category XII(c).

List of Subjects in 22 CFR Part 121

Arms and munitions, Exports, U.S. Munitions List.

Accordingly, 22 CFR part 121 is corrected by making the following correcting amendment:

PART 121—THE UNITED STATES MUNITIONS LIST

1. The authority citation for part 121 continues to read as follows:

Authority: Secs. 2, 38, and 71, Public Law 90-629, 90 Stat. 744 (22 U.S.C. 2752, 2778, 2797); E.O. 11958, 42 FR 4311; 3 CFR, 1977 Comp. p. 79; 22 U.S.C. 2651a; Public Law 105-261, 112 Stat. 1920.

2. In § 121.1(c), Category XII, amend after paragraph (c) by adding a note to read as follows:

§ 121.1 General. The United States Munitions List.

(c) * * *

* * * * *

Category XII—Fire Control, Range Finder, Optical and Guidance and Control Equipment

* * * * *

(c) * * *

Note: Special Definition. For purposes of this subparagraph, second and third generation image intensification tubes are defined as having:

A peak response within the 0.4 to 1.05 micron wavelength range and incorporating a microchannel plate for electron image amplification having a hold pitch (center-to-center spacing) of less than 25 microns and having either:

(a) An S-20, S-25 or multialkali photocathode; or

(b) A GaAs, GaInAs, or other compound semiconductor photocathode.

* * * * *

Dated: April 13, 2009.
Frank J. Ruggiero,
Acting Assistant Secretary for Political Military Affairs, Department of State.

[FR Doc. E9-9291 Filed 4-23-09; 8:45 am]

BILLING CODE 4710-25-P